DEPARTMENT OF THE INTERIOR

National Park Service

36 CFR Parts 60 and 63

[NPS-WASO-NHPA-32134; PPWONRADE2, PMP00EI05.YP0000]

RIN 1024-AE49

National Register of Historic Places; Withdrawal

AGENCY: National Park Service; Interior.

ACTION: Proposed rule; withdrawal.

SUMMARY: The National Park Service withdraws the proposed rule that would have revised regulations governing the listing of properties in the National Register of Historic Places. The National Park Service no longer intends to prepare a final rule and has terminated the rulemaking process.

DATES: The March 1, 2019 proposed rule (84 FR 6996) is withdrawn as of July 28, 2021.

FOR FURTHER INFORMATION CONTACT: Joy Beasley, Associate Director, Cultural Resources Partnerships and Science & Keeper of the National Register of Historic Places, NPS (WASO), (202) 354-6991, joy_beasley@nps.gov.

Shannon A. Estenoz,
Assistant Secretary for Fish and Wildlife and Parks.

[FR Doc. 2021-15944 Filed 7-27-21; 8:45 am]

BILLING CODE 4312-52-P